DEPARTMENT OF ENERGY

Federal Energy Regulatory Commission

Combined Notice of Filings #1

Take notice that the Commission received the following exempt wholesale generator filings:

Docket Numbers: EG15-11-000.

Applicants: Duke Energy Beckjord Storage, LLC.

Description: Notice of Self-Certification as an Exempt Wholesale Generator of Duke Energy Beckjord Storage, LLC.

Filed Date: 11/3/14.

Accession Number: 20141103-5157.

Comments Due: 5 p.m. ET 11/24/14.

Take notice that the Commission received the following electric rate filings:

Docket Numbers: ER10-2983-004; ER10-2980-004; ER10-1777-005.

Applicants: Sundevil Power Holdings, LLC, Castleton Energy Services, LLC, Castleton Power, LLC.

Description: Second Supplement to July 1, 2013 Updated Market Power Analysis for the Southwest Region of the Wayzata Entities, et. al.

Filed Date: 10/31/14.

Accession Number: 20141031-5063.

Comments Due: 5 p.m. ET 11/21/14.

Docket Numbers: ER11-3391-003; ER11-4589-001; ER11-4591-001; ER10-2400-004; ER11-4592-001; ER11-4593-001.

Applicants: Dempsey Ridge Wind Farm, LLC, EcoGrove Wind LLC, Red Hills Wind Project, L.L.C., Blue Canyon Windpower LLC, Tatanka Wind Power, LLC, Nevada Solar One, LLC.

Description: Notice of Non-Material Change in Status of AENAC Sellers.

Filed Date: 11/3/14.

Accession Number: 20141103-5192.

Comments Due: 5 p.m. ET 11/24/14.

Docket Numbers: ER13-80-004.

Applicants: Tampa Electric Company.

Description: Compliance filing per 35: OATT Order No. 1000 Compliance Filing 2014 to be effective 1/1/2015.

Filed Date: 11/4/14.

Accession Number: 20141104-5078.

Comments Due: 5 p.m. ET 11/25/14.

Docket Numbers: ER13-86-004.

Applicants: Duke Energy Florida, Inc., Duke Energy Carolinas, LLC.

Description: Compliance filing per 35: Order 1000 FRCC November 2014 Compliance Filing to be effective 1/1/2015.

Filed Date: 11/4/14.

Accession Number: 20141104-5051.

Comments Due: 5 p.m. ET 11/25/14.

Docket Numbers: ER15-230-000.

Applicants: GP Renewables & Trading, LLC.

Description: Supplement to October 29, 2014 GP Renewables & Trading, LLC tariff filing.

Filed Date: 11/3/14.

Accession Number: 20141103-5188.

Comments Due: 5 p.m. ET 11/19/14

Docket Numbers: ER15-316-000.

Applicants: Green Current Solutions, LLC.

Description: Tariff Withdrawal per 35.15: Green Current Solutions Cancellation to be effective 1/3/2015.

Filed Date: 11/3/14.

Accession Number: 20141103-5169.

Comments Due: 5 p.m. ET 11/24/14.

Docket Numbers: ER15-317-000.

Applicants: Utility Bid USA, LLC.

Description: Tariff Withdrawal per 35.15: Utility Bid USA, LLC Cancellation of Tariff to be effective 1/3/2015.

Filed Date: 11/3/14.

Accession Number: 20141103-5170.

Comments Due: 5 p.m. ET 11/24/14.

Docket Numbers: ER15-318-000.

Applicants: Platinum Energy, LLC.

Description: Tariff Withdrawal per 35.15: Platinum Energy, LLC Tariff Cancellation to be effective 1/3/2015.

Filed Date: 11/3/14.

Accession Number: 20141103-5171.

Comments Due: 5 p.m. ET 11/24/14.

Docket Numbers: ER15-319-000.

Applicants: Avista Corporation.

Description: Initial rate filing per 35.12 Avista Corp Service Agreement No. 545 to be effective 1/1/2015.

Filed Date: 11/4/14.

Accession Number: 20141104-5002.

Comments Due: 5 p.m. ET 11/25/14.

Docket Numbers: ER15-320-000.

Applicants: PJM Interconnection, L.L.C.

Description: § 205(d) rate filing per 35.13(a)(2)(iii): Ministerial Clean-Up Filing—Att K-Appx and OA Sched 1 as a result of ER14-623 to be effective 11/4/2014.

Filed Date: 11/4/14.

Accession Number: 20141104-5071.

Comments Due: 5 p.m. ET 11/25/14.

Docket Numbers: ER15-321-000.

Applicants: PJM Interconnection, L.L.C.

Description: § 205(d) rate filing per 35.13(a)(2)(iii): Ministerial Clean-Up Filing to correct Attachment DD.2 to be effective 11/4/2014.

Filed Date: 11/4/14

Accession Number: 20141104-5072

Comments Due: 5 p.m. ET 11/25/14

Docket Numbers: ER15-322-000.

Applicants: California Independent System Operator Corporation.

Description: § 205(d) rate filing per 35.13(a)(2)(iii): 2014-11-04_CDWR_LGIAs to be effective 1/1/2015.

Filed Date: 11/4/14.

Accession Number: 20141104-5102.

Comments Due: 5 p.m. ET 11/25/14.

Docket Numbers: ER15-324-000.

Applicants: Public Service Company of Colorado.

Description: § 205(d) rate filing per 35.13(a)(2)(iii): PacifiCorp Exchange Agreement to be effective 1/1/2015.

Filed Date: 11/4/14.

Accession Number: 20141104-5119.

Comments Due: 5 p.m. ET 11/25/14.

Docket Numbers: ER15-325-000.

Applicants: ISO New England Inc.

Description: ISO New England Inc. submits Installed Capacity Requirement, Hydro Quebec Interconnection Capability Credits and Related Values for the 2018/2019 Capacity Commitment Period.

Filed Date: 11/4/14.

Accession Number: 20141104-5129.

Comments Due: 5 p.m. ET 11/25/14.

Docket Numbers: ER15-326-000.

Applicants: Public Service Company of Colorado.

Description: § 205(d) rate filing per 35.13(a)(2)(iii): Joint Dispatch Agreement to be effective 1/1/2015.

Filed Date: 11/4/14.

Accession Number: 20141104-5133.

Comments Due: 5 p.m. ET 11/25/14.

Docket Numbers: ER15-327-000.

Applicants: PJM Interconnection, L.L.C.

Description: § 205(d) rate filing per 35.13(a)(2)(iii): Service Agreement No. 3257; Queue No. W4-097 to be effective 10/28/2014.

Filed Date: 11/4/14.

Accession Number: 20141104-5145.

Comments Due: 5 p.m. ET 11/25/14.

Docket Numbers: ER15-328-000.

Applicants: ISO New England Inc.

Description: ISO New England Inc. submits Informational Filing for Qualification in the Forward Capacity Market.

Filed Date: 11/4/14.

Accession Number: 20141104-5148.

Comments Due: 5 p.m. ET 11/19/14.

Docket Numbers: ER15-329-000.

Applicants: Golden Spread Electric Cooperative, Inc.

Description: § 205(d) rate filing per 35.13(a)(2)(iii): Greenbelt Amended SFA Filing to be effective 12/31/2014.

Filed Date: 11/4/14.

Accession Number: 20141104-5152.

Comments Due: 5 p.m. ET 11/25/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 04, 2014.
Nathaniel J. Davis, Sr.,
Deputy Secretary.

[FR Doc. 2014-26757 Filed 11-12-14; 8:45 am]

BILLING CODE 6717-01-P